NUCLEAR REGULATORY COMMISSION

10 CFR Part 50

[Docket No. PRM-50-71; NRC-2000-0004]

Petition for Rulemaking Filed by David J. Modeen, Nuclear Energy Institute; Consideration of Petition in the Rulemaking Process

AGENCY: Nuclear Regulatory Commission.

ACTION: Resolution and closure of petition docket.

SUMMARY: The Nuclear Regulatory Commission (NRC) is considering the issues raised in a petition for rulemaking submitted by David J. Modeen, on behalf of the Nuclear Energy Institute, in the ongoing “Performance-Based Emergency Core Cooling System (ECCS) Cladding Acceptance Criteria” rulemaking (ADAMS accession no. ML020630082). The petitioner requested that the NRC amend its regulations to allow nuclear power plant licensees to use zirconium-based cladding materials other than Zircaloy or ZIRLO, provided the cladding materials meet the requirements for fuel cladding performance and have been approved by the NRC staff. Specifically, the petitioner stated that the NRC's current regulations require uranium oxide fuel pellets, used in commercial reactor fuel, to be contained in cladding material made of Zircaloy or ZIRLO. The requirement to use either of these materials is stated in the regulations that govern combustible gas control and acceptance criteria for emergency core cooling systems for nuclear power reactors. The petitioner noted that subsequent to promulgation of these regulations, commercial nuclear fuel vendors have developed and continue to develop materials other than Zircaloy or ZIRLO. To allow a licensee to use fuel made with these new cladding alloys, the NRC must review and approve an exemption request. The petitioner requested that the NRC amend these regulations to allow licensees discretion to use zirconium-based cladding materials other than Zircaloy or ZIRLO, provided that the cladding materials meet the fuel cladding performance requirements and have been reviewed and approved by the NRC staff.

DATES: The docket for the petition for rulemaking PRM-50-71 is closed on November 6, 2008.

ADDRESSES: You can access publicly available documents related to this petition for rulemaking using the following methods:

Federal e-Rulemaking Portal: Further NRC action on the issues raised by this petition will be accessible at the federal rulemaking portal, http://www.regulations.gov, by searching on rulemaking docket ID: NRC-2000-0004 and docket ID: NRC-2008-0332. The NRC also tracks all rulemaking actions in the “NRC Regulatory Agenda: Semiannual Report (NUREG-0936).”

NRC's Public Document Room (PDR): The public may examine and have copied for a fee, publicly available documents at the NRC's PDR, Public File Area O-1F21, One White Flint North, 11555 Rockville Pike, Rockville, Maryland.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737 or by e-mail to PDR.resource@nrc.gov.

FOR FURTHER INFORMATION CONTACT: Lynn M. Hall, Office of Nuclear Reactor Regulation, U.S. Nuclear Regulatory Commission, Washington, DC 20555-0001, Telephone: 301-415-3759, or toll-free: 800-368-5642, e-mail: Lynn.Hall@nrc.gov.

SUPPLEMENTARY INFORMATION: On May 31, 2000 (65 FR 34599), the NRC published for public comment a petition for rulemaking (PRM) filed by David J. Modeen, on behalf of the Nuclear Energy Institute. The comment period closed on August 14, 2000, and the NRC received 11 comment letters. In response to this petition, the NRC amended § 50.44 of its regulations (68 FR 54123, September 16, 2003) to eliminate the requirement to use Zircaloy or ZIRLO cladding. With respect to the cladding requirements specified in § 50.46, the NRC has determined that the petitioner's request in PRM-50-71 is appropriate for consideration and, in fact, is already being considered in the ongoing “Performance-Based Emergency Core Cooling System (ECCS) Cladding Acceptance Criteria” rulemaking. This rulemaking proposes revisions to the NRC regulations in 10 CFR Part 50 that addresses licensing of production and utilization facilities in which the remaining open issues from PRM-50-71 will be resolved. The NRC will address the comments filed in PRM-50-71 as part of this rulemaking.

Dated at Rockville, Maryland, this 9th day of October 2008.
For the Nuclear Regulatory Commission.
R.W. Borchardt,
Executive Director for Operations.

[FR Doc. E8-26459 Filed 11-5-08; 8:45 am]

BILLING CODE 7590-01-P